DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Baldrige Performance Excellence Program (BPEP) Team Leader Consensus and Team Leader Site Visit Information Collections.

OMB Control Number: #0693-XXXX. This is a new collection.

Form Number(s): None.

Type of Request: Regular submission.

Number of Respondents: 480.

Average Hours per Response: 10 minutes.

Burden Hours: 80 Hours (480 X 10 minutes per response = 80 Hours).

Needs and Uses: The Baldrige Performance Excellence Program (BPEP) staff members need to survey the Baldrige Examiners to understand what roles they are willing and able to take on, what travel assignments they can handle, and what input they have on the skills of other examiners and improvements to the processes in which they participate. This evaluative data is the way the program decides which examiner should be elevated to team leadership responsibility and which skills need to be taught at examiner training in the next year.

The purpose of the information is to help staff collect data on the skills of the examiners, including alumni examiners, in order to best manage training and selection. Because the examiner selection process is so competitive, examiners need to demonstrate competencies such as understanding the Baldrige Criteria, team skills, and writing skills. The program also needs to collect peer-based information to understand an examiner's skill level in order to make decisions on whether the examiner should be elevated to “senior examiner” and therefore team leader. The blinded data will be shared with the team leader for improvement purposes, and for future assignments.

Affected Public: Individual or Households.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 26, 2016.
Glenna Mickelson,
Management Analyst, Office of the Chief Information Officer.

[FR Doc. 2016-18037 Filed 7-28-16; 8:45 am]

BILLING CODE 3510-13-P